DEPARTMENT OF HEALTH AND HUMAN SERVICES

Centers for Disease Control and Prevention

Disease, Disability, and Injury Prevention and Control Special Emphasis Panel (SEP): Initial Review

The meeting announced below concerns Innovative Internet-Based Approaches to Reach Black and Hispanic MSM for HIV Testing and Prevention Services, PS17-003; and Comparison of Models of PrEP Service Delivery at Title X and STD Clinics”, PS17-004, initial review.

This document corrects a notice that was published in the Federal Register on January 25, 2017, Volume 82, page 8428. The meeting time and date should read as follows:

Time and Date: 10:00 a.m.-5:00 p.m., EST, February 22, 2017 (Closed).

Contact Person for More Information: Gregory Anderson, M.S., M.P.H., Scientific Review Officer, CDC, 1600 Clifton Road NE., Mailstop E60, Atlanta, Georgia 30329, Telephone: (404) 718-8833.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-02880 Filed 2-10-17; 8:45 am]

BILLING CODE 4163-18-P